DEPARTMENT OF THE INTERIOR

Bureau of Land Management

[AA-8448-A; AA-8448-B; LLAK965000-L14100000-KC0000-P]

Alaska Native Claims Selection

AGENCY: Bureau of Land Management, Interior.

ACTION: Notice of decision approving lands for conveyance.

SUMMARY: As required by 43 CFR 2650.7(d), notice is hereby given that the Bureau of Land Management will issue an appealable decision approving the conveyance of the surface estate in certain lands pursuant to the Alaska Native Claims Settlement Act to Leisnoi, Incorporated. The subsurface estate in these lands will be conveyed to Koniag, Inc. when the surface estate is conveyed to Leisnoi, Incorporated. The lands are in the vicinity of Woody Island, Alaska, and are located in:

U.S. Survey No. 9177, Alaska.

Containing 139.95 acres.

U.S. Survey No. 5702, Alaska.

Containing 159.93 acres.

Seward Meridian, Alaska

T. 27 S., R. 19 W.,

Tract F.

Containing approximately 1 acre.

Aggregating approximately 301 acres.

Notice of the decision will also be published four times in the Kodiak Daily Mirror.

DATES: The time limits for filing an appeal are:

1. Any party claiming a property interest which is adversely affected by the decision shall have until April 19, 2010 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8339, 24 hours a day, seven days a week, to contact the Bureau of Land Management.

Linda L. Keskitalo,
Land Law Examiner, Land Transfer Adjudication II Branch.

[FR Doc. 2010-6059 Filed 3-18-10; 8:45 am]

BILLING CODE 4310-JA-P